ENVIRONMENTAL PROTECTION AGENCY

[EPA-HQ-OPP-2006-0687; FRL-8105-2]

Petition to Amend FIFRA Section 25(b); Notice of Availability; Reopening of Comment Period

AGENCY: Environmental Protection Agency (EPA).

ACTION: Notice; reopening of comment period.

SUMMARY: EPA issued a notice in the Federal Register of September 13, 2006, concerning a petition filed by the Consumer Specialty Products Association (CSPA) requesting the Agency to modify the minimum risk regulations at 40 CFR 152.25(f) for those products that claim to control public health pests to be subject to EPA registration requirements as a precondition of their sale. This document reopens the comment period for an additional 30 day period.

DATES: Comments, identified by docket identification (ID) number EPA-HQ-OPP-2006-0687 must be received on or before January 5, 2007.

ADDRESSES: Follow the detailed instructions as provided under ADDRESSES in the Federal Register document of September 13, 2006.

FOR FURTHER INFORMATION CONTACT: Brian Steinwand, Biopesticides and Pollution Prevention Division (7511P), Office of Pesticide Programs, Environmental Protection Agency, 1200 Pennsylvania Ave., NW., Washington, DC 20460-0001; telephone number: 703-305-7973; e-mail address: steinwand.brian@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How and to Whom Do I Submit Comments?

To submit comments, or access the official public docket, please follow the detailed instructions as provided in Unit I.B. of the SUPPLEMENTARY INFORMATION of the September 13, 2006, Federal Register document (71 FR 54055) (FRL-8091-3). If you have questions, consult the person listed under FOR FURTHER INFORMATION CONTACT.

II. What Action is EPA Taking?

This document reopens the public comment period established in the Federal Register of September 13, 2006. In that document, EPA created a public docket (EPA-HQ-OPP-2006-0687) requesting comment on a petition filed by the Consumer Specialty Products Association (CSPA) for the Agency to modify the minimum risk regulations at 40 CFR 152.25(f) for those products that claim to control public health pests to be subject to EPA registration requirements as a precondition of their sale. EPA is hereby reopening the comment period, which ended on November 13, 2006, for an additional 30 days. Comments must be received on or before January 5, 2007.

III. What is the Agency's Authority for Taking this Action?

Under section 553(e) of the Administrative Procedure Act, 5 U.S.C. 553(e), an interested person may petition an agency for the issuance, amendment, or repeal of a rule.

List of Subjects

Environmental protection, Pesticides and pests.

Dated: November 27, 2006.
James Jones,
Director, Office of Pesticide Programs.

[FR Doc. E6-20647 Filed 12-5-06; 8:45 am]

BILLING CODE 6560-50-S